FEDERAL MARITIME COMMISSION

Ocean Transportation Intermediary LicenseTerminations

The Federal Maritime Commission hereby gives notice that the following freight forwarder licenses have been terminated pursuant to section 19 of the Shipping Act of 1984 (46 U.S.C. app. 1718) and the regulations of the Commission pertaining to the licensing of Ocean Transportation Intermediaries, effective on the corresponding dates shown below:

LICENSE NUMBER: 4177

NAME: 5 H Corporation d/b/a International Shipping Inc.

ADDRESS: 341 Battlement Way, Alexandria, VA 22312

DATE REVOKED: June 9, 1999.

REASON: Failed to maintain a valid bond.

LICENSE NUMBER: 4458

NAME: AA Freight Forwarders, Inc.

ADDRESS: 2618 N.W. 112th Avenue, Miami, FL 33172

DATE REVOKED: March 28, 2000.

REASON: Failed to maintain a valid bond.

LICENSE NUMBER: 3807

NAME: A & M International Service Corp.

ADDRESS: 2210 N.W. 92nd Avenue, Miami, FL 33172

DATE REVOKED: May 5, 1999.

REASON: Failed to maintain a valid bond.

LICENSE NUMBER: 4278

NAME: Advanced Shipping Agencies, Inc.

ADDRESS: 36 George Street, Bloomfield, NJ 07003-4318

DATE REVOKED: June 9, 1999.

REASON: Failed to maintain a valid bond.

LICENSE NUMBER: 4347

NAME: Advantage Worldwide Logistics, Inc.

ADDRESS: 9998 North Michigan Road, Carmel, IN 46032

DATE REVOKED: May 26, 1999.

REASON: Failed to maintain a valid bond.

LICENSE NUMBER: 3741

NAME: Action Forwarding, International Freight, Inc.

ADDRESS: 7986 N.W. 14th Street, Miami, FL 33126

DATE REVOKED: July 18, 1999.

REASON: Failed to maintain a valid bond.

LICENSE NUMBER: 4549

NAME: Afsaneh Saei-Oskoei d/b/a Eastern International

ADDRESS: 8411 Mobud, Houston, TX 77036

DATE REVOKED: August 18, 1999.

REASON: Failed to maintain a valid bond.

LICENSE NUMBER: 3405

NAME: Amber Marine International, Ltd.

ADDRESS: 1554 Carmen Drive, Elk Grove Village, IL 60007

DATE REVOKED: February 20, 2000.

REASON: Failed to maintain a valid bond.

LICENSE NUMBER: 3324

NAME: America's Expresso, Inc.

ADDRESS: 5487 N.W. 72nd Avenue, Miami, FL 33166

DATE REVOKED: February 20, 2000.

REASON: Failed to maintain a valid bond.

LICENSE NUMBER: 4194

NAME: Arriage & Associates, Inc.

ADDRESS: 9011 Sheldon Road, Houston, TX 77049

DATE REVOKED: October 1, 1999.

REASON: Failed to maintain a valid bond.

LICENSE NUMBER: 2504

NAME: Atlantic International Freight Forwarders, Inc.

ADDRESS: 6531 N.W. 87th Avenue, P.O. Box 522477, Miami, FL 33152-2477

DATE REVOKED: September 8, 1999.

REASON: Failed to maintain a valid bond.

LICENSE NUMBER: 2469

NAME: Blackstar Transport Services Inc.—Acts

ADDRESS: 2744 Seymour Avenue, Bronx, NY 10469

DATE REVOKED: December 10, 1999.

REASON: Failed to maintain a valid bond.

LICENSE NUMBER: 3996

NAME: Blue Pacific Services

ADDRESS: 100 Oceangate, Suite 788, Long Beach, CA 90802

DATE REVOKED: September 7, 2000.

REASON: Failed to maintain a valid bond.

LICENSE NUMBER: 1042

NAME: Carl Matusek, Inc.

ADDRESS: 8536 N.W. 66th, Miami, FL 33166

DATE REVOKED: December 1, 1999.

REASON: Failed to maintain a valid bond.

LICENSE NUMBER: 4611

NAME: Boston Logistics, Inc.

ADDRESS: 186A Lee Burbank Highway, Revere, MA 02151

DATE REVOKED: March 23, 2000.

REASON: Failed to maintain a valid bond.

LICENSE NUMBER: 2172

NAME: Chenice Freight Services, Inc.

ADDRESS: 264 Holmes Street, Belleville, NJ 07109

DATE REVOKED: September 19, 1999.

REASON: Failed to maintain a valid bond.

LICENSE NUMBER: 4162

NAME: CJC International Services, Inc.

ADDRESS: 8745 N.W. 100th Street, Medley, FL 33178

DATE REVOKED: September 29, 1999.

REASON: Failed to maintain a valid bond.

LICENSE NUMBER: 2976

NAME: Cole Forwarding, Inc.

ADDRESS: 1901 East Lambert Road, Suite 201, La Habra, CA 90631

DATE REVOKED: March 30, 2000.

REASON: Failed to maintain a valid bond.

LICENSE NUMBER: 3884

NAME: Consolidated Incorporated Of Orlando

ADDRESS: 767 Citrus Cove Drive, Winter Garden, FL 34787

DATE REVOKED: November 11, 1999.

REASON: Failed to maintain a valid bond.

LICENSE NUMBER: 3265

NAME: Cynthia J. Dee d/b/a Midwest Agencies Company

ADDRESS: 3426 S. Lenox Street, Milwaukee, WI 53207

DATE TERMINATED: March 6, 2000.

REASON: Surrendered license voluntarily.

LICENSE NUMBER: 4062

NAME: DMK International Logistics, Inc.

ADDRESS: 256 N. Sam Houston Pkwy. E., Ste. 206, Houston, TX 77060

DATE REVOKED: November 26, 1999.

REASON: Failed to maintain a valid bond.

LICENSE NUMBER: 3908

NAME: E & S Shipper, Inc.

ADDRESS: 1201 Broadway, Ste. 809, New York, NY 10001

DATE REVOKED: September 3, 1999.

REASON: Failed to maintain a valid bond.

LICENSE NUMBER: 4392

NAME: EAS International (USA) Inc.

ADDRESS: 880 Apollo Street, Ste. 351, El Segundo, CA 90245

DATE REVOKED: October 1, 1999.

REASON: Failed to maintain a valid bond.

LICENSE NUMBER: 4625

NAME: E-Z Shipping Line Corp.

ADDRESS: 1355 NW 93rd Ct., Ste. A-108, 2nd Floor, Miami, FL 33172

DATE REVOKED: May 5, 1999.

REASON: Failed to maintain a valid bond.

LICENSE NUMBER: 4013

NAME: Eldon D. Spencer d/b/a Ocean Customs Brokers

ADDRESS: 8554 Katy Freeway, Ste. 123, Houston, TX 77024

DATE REVOKED: October 15, 1999.

REASON: Failed to maintain a valid bond.

LICENSE NUMBER: 4385

NAME: Elliott C. Penalosa d/b/a EP International Shipping

ADDRESS: 8336 Hindry Avenue, Los Angeles, CA 90045-3206

DATE REVOKED: June 29, 1999.

REASON: Failed to maintain a valid bond.

LICENSE NUMBER: 4434

NAME: Express International, Inc.

ADDRESS: 3842 Durazno, Ste. B, El Paso, TX 79903

DATE REVOKED: December 15, 1999.

REASON: Failed to maintain a valid bond.

LICENSE NUMBER: 3855

NAME: Friendly Forwarding Services, Inc.

ADDRESS: 7959 NW 21st Street, P.O. Box 441519, Miami, FL 33144-1519

DATE REVOKED: May 5, 1999.

REASON: Failed to maintain a valid bond.

LICENSE NUMBER: 2707

NAME: G & J International Corporation

ADDRESS: P.O. Box 524041, Miami, FL 33152

DATE REVOKED: December 12, 1999.

REASON: Failed to maintain a valid bond.

LICENSE NUMBER: 4075

NAME: Gina T. Fregosi d/b/a Red Hot Transport

ADDRESS: 618 Noe Street, San Francisco, CA 94114-0816

DATE REVOKED: July 8, 1999.

REASON: Failed to maintain a valid bond.

LICENSE NUMBER: 4451

NAME: Global Marine Services, Inc.

ADDRESS: 12705 Caron Drive, Jacksonville, FL 32258

DATE REVOKED: September 22, 1999.

REASON: Failed to maintain a valid bond.

LICENSE NUMBER: 3540

NAME: Gulf International Freight, Inc.

ADDRESS: 14720 Lee Road, Humble, TX 77396

DATE REVOKED: February 11, 2000.

REASON: Failed to maintain a valid bond.

LICENSE NUMBER: 3487

NAME: H.P. Blanchard & Co.

ADDRESS: 100 West Broadway, Ste. 200, Long Beach, CA 90802

DATE REVOKED: November 26, 1999.

REASON: Failed to maintain a valid bond.

LICENSE NUMBER: 4461

NAME: Hansa U.S.A. Corp.

ADDRESS: 2654 NW 112th Avenue, Miami, FL 31728

DATE REVOKED: March 3, 2000.

REASON: Failed to maintain a valid bond.

LICENSE NUMBER: 2955

NAME: Harper International, Incorporated

ADDRESS: 820 Highland Bend Cove, Apharetta, GA 30022

DATE REVOKED: December 4, 1999.

REASON: Failed to maintain a valid bond.

LICENSE NUMBER: 3219

NAME: Ice-USA, Inc. d/b/a Viking Shipping

ADDRESS: 2204 Commerce Parkway, Virginia Beach, VA 23454

DATE REVOKED: July 7, 1999.

REASON: Failed to maintain a valid bond.

LICENSE NUMBER: 3914

NAME: Indigo International, Inc.

ADDRESS: 140 North Main Street, Ste. 101, Summerville, SC 29483

DATE REVOKED: September 29, 1999.

REASON: Failed to maintain a valid bond.

LICENSE NUMBER: 354F

NAME: Inter-Maritime Forwarding Co., Inc.

ADDRESS: 39 Broadway (29th floor), New York, NY 10006

DATE TERMINATED: March 20, 2000.

REASON: Surrendered license voluntarily.

LICENSE NUMBER: 2498

NAME: Inter-Maritime Forwarding Co. (California) Inc.

ADDRESS: 11099 S. LaCienega Blvd., Ste. 240, Los Angeles, CA 90045

DATE TERMINATED: March 20, 2000.

REASON: Surrendered license voluntarily.

LICENSE NUMBER: 2499

NAME: Inter-Maritime Forwarding Company Florida, Inc.

ADDRESS: 2601 N.W. 104th Court., Miami, FL 33172

DATE TERMINATED: March 20, 2000.

REASON: Surrendered license voluntarily.

LICENSE NUMBER: 15419F

NAME: Inter-Maritime Forwarding Co. (San Francisco), Inc.

ADDRESS: 55 New Montgomery Street, San Francisco, CA 94105

DATE TERMINATED: March 20, 2000.

REASON: Surrendered license voluntarily.

LICENSE NUMBER: 4457

NAME: International Forwarding and Logistics Inc.

ADDRESS: 2653 Veneer Street, Charleston, SC 29405

DATE REVOKED: February 20, 2000.

REASON: Failed to maintain a valid bond.

LICENSE NUMBER: 4460

NAME: International Shipping Management U.S.A., Inc.

ADDRESS: 1630 Bath Avenue, Brooklyn, NY 11214

DATE REVOKED: March 4, 2000.

REASON: Failed to maintain a valid bond.

LICENSE NUMBER: 4570

NAME: International Transportation Consultants, Ltd.

ADDRESS: 1551-53 Carmen Drive, Elk Grove Village, IL 60007

DATE REVOKED: March 30, 2000.

REASON: Failed to maintain a valid bond.

LICENSE NUMBER: 2362

NAME: J. Hansen International, Inc.

ADDRESS: 11500 South Main Street, Ste. 126, Houston, TX 77025

DATE REVOKED: March 10, 2000.

REASON: Failed to maintain a valid bond.

LICENSE NUMBER: 4039

NAME: J.B. Rothenberg & Co., Inc. d/b/a/ J.B.R. Shipping

ADDRESS: 127 Tingley Lane, Edison, NJ 08820

DATE REVOKED: November 18, 1999.

REASON: Failed to maintain a valid bond.

LICENSE NUMBER: 4040

NAME: Joseph Rizzari d/b/a Air Pax

ADDRESS: 20 Old County Road, Ste. 15, P.O. Box 3158, Windsor Locks, CT 06096-3158

DATE REVOKED: June 9, 1999.

REASON: Failed to maintain a valid bond.

LICENSE NUMBER: 4493F

NAME: Kazma Karen Lee d/b/a Axis Freight Forwardering

ADDRESS: 2624 South Sanford Avenue, Sanford, FL 32773

DATE TERMINATED: March 20, 2000.

REASON: Surrendered license voluntarily.

LICENSE NUMBER: 3990F

NAME: King Yang Shipping, Inc.

ADDRESS: 300 South Garfield Avenue, #108

DATE TERMINATED: May 31, 2000.

REASON: Surrendered license voluntarily.

LICENSE NUMBER: 4244

NAME: Long International Logistics Services, Inc.

ADDRESS: P.O. Box 58587, Raleigh, NC 27658

DATE TERMINATED: August 13, 1999.

REASON: Surrendered license voluntarily.

LICENSE NUMBER: 3872

NAME: Lori Ann Wren d/b/a Export NW

ADDRESS: 845 NE Arrington Rd., Hillsboro, OR 97124

DATE TERMINATED: December 2, 1999.

REASON: Failed to maintain a valid bond.

LICENSE NUMBER: 4370

NAME: M Ahmed M Hossain d/b/a Gulf Shipping & Trading Group

ADDRESS: 5881 Leesburg Pike, #301 Falls Church, VA 22041

DATE REVOKED: December 18, 1999.

REASON: Failed to maintain a valid bond.

LICENSE NUMBER: 4288

NAME: Magdoleen T. Ierlan d/b/a K & M International Co.

ADDRESS: 8066 Thurston Drive, Cicero, NY 13039

DATE REVOKED: March 12, 2000.

REASON: Failed to maintain a valid bond.

LICENSE NUMBER: 4418

NAME: Martha A. Works d/b/a Unlimited Logistics

ADDRESS: 2395 Giltner Road, Smithfield, KY 40068

DATE REVOKED: June 9, 1999.

REASON: Failed to maintain a valid bond.

LICENSE NUMBER: 3259

NAME: MBC Freight Consultants (USA), Inc.

ADDRESS: 30 Willow Street, Chelsea, MA 02150

DATE REVOKED: January 26, 2000.

REASON: Failed to maintain a valid bond.

LICENSE NUMBER: 4345

NAME: M H Shipping, Inc.

ADDRESS: 3624 Marietta Drive, Chalmette, LA 70043

DATE REVOKED: November 26, 1999.

REASON: Failed to maintain a valid bond.

LICENSE NUMBER: 4361

NAME: Mi Son Kim d/b/a Hyzoom Express Co.

ADDRESS: 203 South Hampton Street, Anahaim, CA 92804

DATE REVOKED: August 22, 1999.

REASON: Failed to maintain a valid bond.

LICENSE NUMBER: 3399

NAME: Oceanbridge Shipping International, Inc.

ADDRESS: 18732 Crenshaw Blvd., Torrance, CA 90504

DATE REVOKED: February 23, 2000.

REASON: Failed to maintain a valid bond.

LICENSE NUMBER: 3031

NAME: Osvaldo Marrero d/b/a Professional Services

ADDRESS: 2070 N.W. 79th Avenue, Miami, FL 33126

DATE TERMINATED: February 1, 2000.

REASON: Surrendered license voluntarily.

LICENSE NUMBER: 3196

NAME: Palm Beach Forwarding International, Inc.

ADDRESS: 15053 Palmwood Road, Palm Beach Gardens, FL 33410

DATE REVOKED: May 27, 1999.

REASON: Failed to maintain a valid bond.

LICENSE NUMBER: 4519

NAME: Paul Yoon d/b/a Asian Pacific Logistics

ADDRESS: 23202 Audrey Avenue, Torrance, CA 90505-3710

DATE REVOKED: February 22, 2000.

REASON: Failed to maintain a valid bond.

LICENSE NUMBER: 4342

NAME: Philip Island International Inc.

ADDRESS: 2758 Magnolia Road, Vineland, NJ 08360

DATE REVOKED: July 22, 1999.

REASON: Failed to maintain a valid bond.

LICENSE NUMBER: 4582

NAME: Rockets Cargo, Incorporated

ADDRESS: 9805 N. Bissonnet, Houston, TX 77036

DATE REVOKED: October 16, 1999.

REASON: Failed to maintain a valid bond.

LICENSE NUMBER: 2967

NAME: Rutherford International Group Ltd. d/b/a Rutherford Forwarding Co.

ADDRESS: 14 Commercial Blvd., Ste. 115, Novato, CA 94949

DATE REVOKED: March 4, 2000.

REASON: Failed to maintain a valid bond.

LICENSE NUMBER: 4423

NAME: S.A. Maritime International, Inc.

ADDRESS: 10333 NW Freeway, Suite 317, Houston, TX 77092-6217

DATE REVOKED: December 4, 1999.

REASON: Failed to maintain a valid bond.

LICENSE NUMBER: 15733

NAME: Sari Express, Inc.

ADDRESS: 6810 N.W. 82nd Avenue, Miami, FL 33166

DATE REVOKED: January 7, 2000.

REASON: Failed to maintain a valid bond.

LICENSE NUMBER: 3951

NAME: Savannah Steamship Company, Inc.

ADDRESS: 12½ W. State Street, Savannah, GA 31412

DATE REVOKED: June 10, 1999.

REASON: Failed to maintain a valid bond.

LICENSE NUMBER: 3263

NAME: Ship and Strap, Inc.

ADDRESS: 7262 N.W. 70th Street, Miami, FL 33166

DATE REVOKED: December 12, 1999.

REASON: Failed to maintain a valid bond.

LICENSE NUMBER: 4000

NAME: Sunway International, Inc.

ADDRESS: 2531 Ambling Cir., Crofton, MD 21114

DATE REVOKED: January 6, 2000.

REASON: Failed to maintain a valid bond.

LICENSE NUMBER: 2134

NAME: T-Bird Forwarders, Inc.

ADDRESS: 900 Wilshire Blvd., Suite 404, Los Angeles, CA 90017

DATE REVOKED: March 12, 2000.

REASON: Failed to maintain a valid bond.

LICENSE NUMBER: 2571

NAME: Takashi Uryu d/b/a Central Shipping Company

ADDRESS: 1680 Post Street, #E, San Francisco, CA 94115

DATE REVOKED: April 9, 2000.

REASON: Failed to maintain a valid bond.

LICENSE NUMBER: 4165

NAME: Timothy Voit d/b/a S & T Shipping

ADDRESS: 118½ North Woodland Blvd., Suite 3, Deland, FL 32720

DATE REVOKED: August 18, 1999.

REASON: Failed to maintain a valid bond.

LICENSE NUMBER: 2503

NAME: Trade Winds Forwarding, Inc.

ADDRESS: 8100 NW 68th Street, Miami, FL 33166

DATE REVOKED: Jauary 20, 2000.

REASON: Failed to maintain a valid bond.

LICENSE NUMBER: 4533

NAME: Trans-Ocean International Inc.

ADDRESS: 150 N. Santa Anita Avenue, #580, Arcadia, CA 91006

DATE REVOKED: November 21, 1999.

REASON: Failed to maintain a valid bond.

LICENSE NUMBER: 3291

NAME: Transit Cargo Services, Inc.

ADDRESS: 1001 Durham Avenue, So. Plainfield, NJ 07080-2300

DATE REVOKED: December 29, 1999.

REASON: Failed to maintain a valid bond.

LICENSE NUMBER: 4218

NAME: United Shipping Agent, Inc.

ADDRESS: Port Authority, Terminal 3, Wilmington, NC 28401

DATE REVOKED: January 29, 2000.

REASON: Failed to maintain a valid bond.

LICENSE NUMBER: 4139

NAME: USF Seko Worldwide Inc.

ADDRESS: 1100 Arlington Heights Road, Ste. 600, Itasca, IL 60143

DATE TERMINATED: February 7, 2000.

REASON: Surrendered license voluntarily.

LICENSE NUMBER: 4393

NAME: Worldserv Transport Corporation

ADDRESS: 12282 Gamma Street, Garden Grove, CA 92840

DATE REVOKED: March 17, 2000.

REASON: Failed to maintain a valid bond.

LICENSE NUMBER: 2584

NAME: Young S. Kim d/b/a Ace Young Company

ADDRESS: 147-29 183rd Street, Jamaica, NY 11413

DATE TERMINATED: February 28, 2000.

REASON: Surrendered license voluntarily.

Sandra L. Kusumoto,
Director, Bureau of Consumer Complaints and Licensing.

[FR Doc. 00-15672 Filed 6-20-00; 8:45 am]

BILLING CODE 6730-01-P